DEPARTMENT OF ENERGY

Federal Energy Regulatory Commission

Notice of Competing Preliminary Permit Applications Accepted for Filing and Soliciting Comments and Motions To Intervene

December 8, 2010

Lock+™ Hydro Friends Fund XXXVI | Project No. 13733-000
FFP Missouri 8, LLC | Project No. 13752-000
Solia 6 Hydroelectric, LLC | Project No. 13768-000
Montgomery Hydro, LLC | Project No. 13792-000

On May 18, 2010, Lock+™ Hydro Friends Fund XXXVI, FFP Missouri 8, LLC, and Solia 6 Hydroelectric, LLC, filed applications, and on May 19, 2010, Montgomery Hydro, LLC, filed an application, pursuant to section 4(f) of the Federal Power Act, proposing to study the feasibility of hydropower at the U.S. Army Corps of Engineers Montgomery Locks and Dam on the Ohio River near the town of Industry, in Beaver County, Pennsylvania. The sole purpose of a preliminary permit, if issued, is to grant the permit holder priority to file a license application during the permit term. A preliminary permit does not authorize the permit holder to perform any land-disturbing activities or otherwise enter upon lands or waters owned by others without the owners' express permission.

Descriptions of the proposed Montgomery Locks and Dam Projects: Lock+™ Hydro Friends Fund XXXVI's proposed project (Project No. 13733-000) would consist of: (1) Two lock frame modules 170 feet long, 40 feet high, and weighing 1.16 million pounds each, and containing 15 generating units with a total combined capacity of 54 megawatts (MW); (2) a 67-foot-high, 75-foot-long prefabricated concrete wall attached to pilings in the river to support each lock frame module; (3) a 25-foot-long, 50-foot-wide switchyard containing a transformer; and (4) a 2,000-foot-long, 69-kilovolt (kV) transmission line to an existing substation. The proposed project would have an average annual generation of 236.68 gigawatt-hours (GWh), which would be sold to a local utility.

Applicant Contact: Mr. Mark R. Stover, Hydro Green Energy LLC, 5090 Richmond Avenue #390, Houston, TX 77056; phone (877) 556-6566 x709.

FFP Missouri 8, LLC's proposed project (Project No. 13752-000) would consist of: (1) An excavated intake and tailrace channel slightly longer and wider than the powerhouse; (2) a 200-foot-long, 250-foot-wide, 50-foot-high powerhouse containing three generating units having a total installed capacity of 50 MW; and (3) a 1,500-foot-long, ranging from 34.0 to 230-kV, transmission line. The proposed project would have an average annual generation of 220 GWh, which would be sold to a local utility.

Applicant Contact: Ms. Ramya Swaminathan, Free Flow Power Corporation, 33 Commercial Street, Gloucester, MA 01930; phone (978) 283-2822.

Solia 6 Hydroelectric, LLC's proposed project (Project No. 13768-000) would consist of: (1) A 300-foot-long, 160-foot-wide excavated intake channel; (2) a 200-foot-long, 160-foot-wide excavated tailrace; (3) a 200-foot-long, 250-foot-wide, 50-foot-high concrete powerhouse containing three generating units with a combined capacity of 50 MW; and (4) a 1,600-foot-long transmission line. The proposed project would have an average annual generation of 220 GWh, which would be sold to a local utility.

Applicant Contact: Mr. Douglas Spaulding, P.E., Nelson Energy, 8441 Wayzata Blvd., Suite 101, Golden Valley, MN, 55426; phone (952) 544-8133.

Montgomery Hydro, LLC's proposed project (Project No. 13792-000) would consist of: (1) A 240-foot-long, excavated power canal; (2) a 165-foot-long excavated tailrace; (3) a powerhouse containing four 10-MW generating units having an estimated total capacity of 39.9 MW; (4) a switchyard; and (5) a 0.4-mile-long, 69.0-kV transmission line. The proposed project would have an average annual generation of 156 GWh, which would be sold to a local utility.

Applicant Contact: Mr. Brent Smith, Symbiotics LLC., P.O. Box 535, Rigby, ID 83442; phone (208) 745-0834.

FERC Contact: Gaylord Hoisington, (202) 502-6032. Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13733-000, 13752-000, 13768-000, or 13792-000) in the docket number field to access the document. For assistance, contact FERC Online Support.

Kimberly D. Bose,
Secretary.

[FR Doc. 2010-31411 Filed 12-14-10; 8:45 am]

BILLING CODE 6717-01-P